DEPARTMENT OF COMMERCE

International Trade Administration

[C-489-806]

Certain Pasta From Turkey: Final Results of Countervailing Duty Administrative Review

AGENCY: Import Administration, International Trade Administration, Department of Commerce.

ACTION: Notice of final results of countervailing duty administrative review.

SUMMARY: The Department is issuing the final results of the first administrative review of the countervailing duty order on pasta from Turkey.

EFFECTIVE DATE: December 13, 2001.

FURTHER INFORMATION CONTACT: Annika O'Hara or Melanie Brown, Office of AD/CVD Enforcement 1, Import Administration, U.S. Department of Commerce, Room 3099, 14th Street and Constitution Avenue, NW., Washington, DC 20230; telephone: (202) 482-3798 and (202) 482-4987, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, unless otherwise indicated, all citations to the Department of Commerce's (“the Department”) regulations are to 19 CFR part 351 (April 2000).

Background

On July 24, 1996, the Department published in the Federal Register (61 FR 38546) the countervailing duty order on certain pasta from Turkey.

In accordance with 19 CFR 351.213(b), this review of the order covers the following producers or exporters of the subject merchandise for which a review was specifically requested: Filiz Gida Sanayi ve Ticaret A.S. (“Filiz”), Beslen Makarna Gida Sanayi ve Ticaret A.S. and Beslen Pazarlama Gida Sanayi ve Ticaret A.S. (“Beslen”), Pastavilla Makarnacilik Sanayi ve Ticaret A.S. (“Pastavilla”), and Maktas Makarnacilik ve Ticaret A.S. (“Maktas”).

Since the publication of the preliminary results (see Certain Pasta from Turkey: Preliminary Results of Countervailing Duty Administrative Review, 66 FR 41553 (August 8, 2001)), the following events have occurred: On October 11, 2001, the Department issued a third supplemental questionnaire to Pastavilla, Maktas, and the Government of Turkey. Responses were received between October 19 and October 23, 2001. On October 31, 2001, Maktas submitted a case brief. No rebuttal briefs were submitted and we received no requests for a hearing.

Scope of Order

Covered by the order are shipments of certain non-egg dry pasta in packages of five pounds (2.27 kilograms) or less, whether or not enriched or fortified or containing milk or other optional ingredients such as chopped vegetables, vegetable purees, milk, gluten, diastases, vitamins, coloring and flavorings, and up to two percent egg white. The pasta covered by this order is typically sold in the retail market, in fiberboard or cardboard cartons or polyethylene or polypropylene bags, of varying dimensions.

Excluded from the order are refrigerated, frozen, or canned pastas, as well as all forms of egg pasta, with the exception of non-egg dry pasta containing up to two percent egg white.

The merchandise under review is currently classifiable under subheading 1902.19.20 of the Harmonized Tariff Schedule of the United States (“HTSUS”). Although the HTSUS subheading is provided for convenience and customs purposes, our written description of the scope of the order is dispositive.

Scope Ruling

To date, the Department has issued the following scope ruling:

On October 26, 1998, the Department self-initiated a scope inquiry to determine whether a package weighing over five pounds as a result of allowable industry tolerances may be within the scope of the countervailing duty order. On May 24, 1999, we issued a final scope ruling finding that, effective October 26, 1998, pasta in packages weighing or labeled up to (and including) five pounds four ounces is within the scope of the countervailing duty order. (See May 24, 1999 memorandum from John Brinkman to Richard Moreland, which is on file in the Central Records Unit (“CRU”) in Room B-099 of the main Commerce building.)

Period of Review

The period of review (“POR”) for which we are measuring subsidies is from January 1, 1999 through December 31, 1999.

Analysis of Comments Received

All issues raised in the case by parties to this administrative review are addressed in the December 6, 2001 Issues and Decision Memorandum from Richard Moreland, Deputy Assistant Secretary for Import Administration, to Bernard Carreau, Acting Assistant Secretary for Import Administration (“Decision Memorandum”), which is hereby adopted by this notice. Only one interested party, Maktas, filed a case brief. No parties filed rebuttal briefs. The only issue raised by Maktas concerned the calculation of the benefit conferred by the Resource Utilization Support Fund (“KKDF”) tax exemption program. Parties can find a complete discussion of this issue and the corresponding recommendation in the public Decision Memorandum which is on file in the CRU. In addition, a complete version of the memorandum can be accessed directly on the Internet at http://ia.ita.doc.gov/frn/ under the heading “Turkey.” The paper copy and electronic version of the Decision Memorandum are identical in content.

Changes Since the Preliminary Results

In the preliminary results, we found a program called “Exemption from KKDF, BIST, and Stamp Taxes on Export-related Loans” to provide countervailable benefits. In addition to being countervailed as a separate tax program under this heading, the benefit from these tax exemptions was added to the benefit conveyed by preferential interest rates on pre-shipment export loans in order to capture the total benefit from these loans. Based upon the comment received and further review of the questionnaire responses, we have made three changes related to this program since the preliminary results: (1) We have found the exemption from stamp taxes to be not countervailable; (2) we have analyzed the KKDF and the BIST (Banking and Insurance Transactions) tax exemptions as two separate programs; and (3) we have changed the benefit calculation methodology for the KKDF and BIST tax exemptions on certain loans. These changes are discussed in further detail in the relevant sections of the Decision Memorandum.

Final Results of Review

In accordance with 19 CFR 351.221(b)(4)(i), we calculated an individual subsidy rate for each producer/exporter subject to this administrative review. For the period January 1, 1999 through December 31, 1999, we determine the net subsidy rates for producers/exporters under review to be those specified in the chart shown below.

Company | Ad valorem rate (percent)
Beslen Makarna Gida Sanayi ve Ticaret A.S. and Beslen Pazarlama Gida Sanayi ve Ticaret A.S. | 0.00
Filiz Gida Sanayi ve Ticaret A.S. | 0.00
Maktas Makarnacilik ve Ticaret A.S. | 6.52
Pastavilla Makarnacilik Sanayi ve Ticaret A.S. | 1.73

We will instruct the Customs Service (“Customs”) to assess countervailing duties as indicated above. The Department will also instruct Customs to collect cash deposits of estimated countervailing duties in the percentages detailed above of the f.o.b. invoice prices on all shipments of the subject merchandise from the producers/exporters under review, entered, or withdrawn from warehouse, for consumption on or after the date of publication of the final results of this administrative review.

The cash deposit rates for all companies not covered by this review are not changed by the results of this review. Thus, we will instruct Customs to continue to collect cash deposits for non-reviewed companies. Accordingly, the cash deposit rates that will be applied to non-reviewed companies covered by this order are those established in the Notice of Countervailing Duty Order: Certain Pasta (“Pasta”) from Turkey, 61 FR 38546 (July 24, 1996), which provides the most recently published countervailing duty rates for companies not reviewed in this administrative review. These rates shall apply to all non-reviewed companies until a review of a company assigned these rates is completed. In addition, for the period January 1, 1999 through December 31, 1999, the assessment rates applicable to all non-reviewed companies covered by these orders are the cash deposit rates in effect at the time of entry.

Return or Destruction of Proprietary Information

This notice serves as a reminder to parties subject to administrative protective order (“APO”) of their responsibility concerning the disposition of proprietary information disclosed under APO in accordance with 19 CFR 351.305(a)(3). Timely written notification of return or destruction of APO materials or conversion to judicial protective order is hereby requested. Failure to comply with the regulations and the terms of an APO is a sanctionable violation.

This administrative review and notice are in accordance with section 751(a)(1) of the Act (19 U.S.C. 1675(a)(1)).

Dated: December 6, 2001.
Bernard Carreau,
Acting Assistant Secretary for Import Administration.

[FR Doc. 01-30823 Filed 12-12-01; 8:45 am]

BILLING CODE 3510-DS-P